DEPARTMENT OF THE TREASURY

Internal Revenue Service

26 CFR Part 1

[REG-209038-89]

RIN 1545-AO75

Foreign Trusts That Have U.S. Beneficiaries; Correction

AGENCY: Internal Revenue Service (IRS), Treasury.

ACTION: Correction to notice of proposed rulemaking and notice of public hearing.

SUMMARY: This document contains corrections to a notice of proposed rulemaking and notice of public hearing that was published in the Federal Register on Monday, August 7, 2000 (65 FR 48185) relating to transfers of property by U.S. persons to foreign trusts having one or more United States beneficiaries.

FOR FURTHER INFORMATION CONTACT: Willard W. Yates at (202) 622-3880 (not a toll-free number).

SUPPLEMENTARY INFORMATION:

Background

The notice of proposed rulemaking and notice of public hearing that is the subject of this correction is under section 679 of the Internal Revenue Code.

Need for Correction

As published, the notice of proposed rulemaking and notice of public hearing contains errors that may prove to be misleading and are in need of clarification.

Correction of Publication

Accordingly, the publication of the notice of proposed rulemaking and notice of public hearing (REG-209038-89), that was the subject of FR Doc. 00-19897, is corrected as follows:

1. On page 48187, column 2, in the preamble under the paragraph heading “Section 1.679-1 U.S. Transferor Treated as Owner of Foreign Trust”, first full paragraph from the top of the column, last line, the language “November 6, 2000” is corrected to read “August 7, 2000”.

2. On page 48188, column 1, in the preamble under the paragraph heading “Section 1.679-2: Trusts Treated as Having a U.S. Beneficiary”, third full paragraph, last line, the language “November 6, 2000” is corrected to read “August 7, 2000”.

3. On page 48188, column 3, in the preamble under the paragraph heading “Section 1.679-3 Transfers”, fourth paragraph, last line, the language “November 6, 2000” is corrected to read “August 7, 2000”.

4. On page 48189, column 2, in the preamble under the paragraph heading “Section 1.679-4 Exceptions to General Rule”, second full paragraph, third line, the language “trusts after November 6, 2000. Special” is corrected to read “trusts after August 7, 2000. Special”.

5. On page 48189, column 3, in the preamble under the paragraph heading “Section 1.679-5 Pre-immigration Trusts”, third full paragraph, last line, the language “after November 6, 2000” is corrected to read “after August 7, 2000”.

6. On page 48189, column 3, in the preamble under the paragraph heading “Section 1.679-6 Outbound Migrations of Domestic Trusts”, last paragraph in the column, last line, the language “November 6, 2000” is corrected to read “August 7, 2000”.

Cynthia E. Grigsby,
Chief, Regulations Unit, Office of Special Counsel (Modernization and Strategic Planning).

[FR Doc. 00-28424 Filed 11-8-00; 8:45 am]

BILLING CODE 4830-01-P